INTERNATIONAL TRADE COMMISSION

[Inv. No. 337-TA-799]

Certain Computer Forensic Devices and Products Containing Same; Commission Determination Not To Review the Final Initial Determination of the Administrative Law Judge; Termination of the Investigation

AGENCY: U.S. International Trade Commission.

ACTION: Notice.

SUMMARY: Notice is hereby given that the U.S. International Trade Commission has determined not to review the final initial determination (“final ID” or “ID”) of the presiding administrative law judge in the above-identified investigation.

FOR FURTHER INFORMATION CONTACT: James A. Worth, Office of the General Counsel, U.S. International Trade Commission, 500 E Street SW., Washington, DC 20436, telephone 202-205-3065. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on August 29, 2011, based on a complaint filed by MyKey Technology Inc. (“MyKey”) of Gaithersburg, Maryland. 76 FR 53695 (Aug. 29, 2011). The complaint alleges violations of section 337 of the Tariff Act of 1930, as amended (19 U.S.C. 1337), in the importation into the United States, the sale for importation, and the sale within the United States after importation of certain computer forensic devices and products containing the same by reason of infringement of claims 1-8, 11-13, 16-38 and 40-45 of U.S. Patent No. 6,813,682 (the “ ’682 patent”), claims 1-9, 13-18 and 20-21 of U.S. Patent No. 7,159,086 and claims 1 and 2 of U.S. Patent No. 7,228,379 (the “ ’379 patent”). The notice of investigation named as respondents Data Protection Solutions by Arco of Hollywood, Florida; CRU Acquisitions Group LLC of Vancouver, Washington d/b/a CRU-DataPort LLC of Vancouver, Washington (“CRU”); Digital Intelligence, Inc. of New Berlin, Wisconsin (“Digital Intelligence”); Diskology, Inc. of Chatsworth, California; Guidance Software, Inc. of Pasadena, California and Guidance Tableau LLC of Pasadena, California (collectively, “Guidance”); Ji2, Inc. of Cypress, California; MultiMedia Effects, Inc. of Markham, Ontario;Voom Technologies, Inc. of South Lakeland, Minnesota; and YEC Co. Ltd. of Tokyo, Japan.

Only respondents Guidance, CRU, and Digital Intelligence remain in the investigation. The complainant has also narrowed the claims asserted to claims 1-8, 11-13, 16-21, 24-36, and 40-45 of the ’682 patent and claim 2 of the ’379 patent.

An evidentiary hearing was held from August 6 to August 10, 2012.

On October 26, 2012, the ALJ issued the final ID, finding no violation of Section 337. The ALJ found that MyKey had failed to satisfy the economic prong of the domestic industry requirement. No petitions for review of the ID were filed.

The Commission would ordinarily remand this investigation to the ALJ to address in the final ID all material issues presented because a hearing has concluded and all issues have been fully briefed before the ALJ. 19 CFR 210.42(d); see also Certain Video Game Systems and Wireless Controllers and Components Thereof, Inv. 337-TA-770, Comm'n Op. at n.1 (Nov. 6, 2012). However, the Commission has determined not to review the ID in this investigation based upon the extraordinary factual situation and the parties' failure to file petitions for review. This investigation is hereby terminated.

The authority for the Commission's determination is contained in section 337 of the Tariff Act of 1930, as amended (19 U.S.C. 1337), and in Part 210 of the Commission's Rules of Practice and Procedure (19 CFR part 210).

By order of the Commission.
Issued: December 21, 2012.
Lisa R. Barton,
Acting Secretary to the Commission.

[FR Doc. 2012-31331 Filed 12-28-12; 8:45 am]

BILLING CODE 7020-02-P